DEPARTMENT OF THE INTERIOR

Bureau of Land Management

[MT-096-1610-00]

Notice of Availability

AGENCY: Bureau of Land Management, Interior.

ACTION: Notice.

SUMMARY: The Bureau of Land Management (BLM) has prepared a draft Bitter Creek and Mountain Plover Areas of Critical Environmental Concern (ACEC) Plan Amendment and Environmental Assessment (EA). The draft plan amendment/EA addresses two potential ACECs in the Glasgow Field Station, Valley County, Montana.

DATES: Comments on the draft plan amendment/EA should be submitted to BLM on or before May 16, 2000.

ADDRESSES: Address all comments to John Fahlgren, Assistant Field Manager, Glasgow Field Station, RR1-4775, Glasgow, MT 59230.Comments, including names and street addresses of respondents, will be available for public review at the above Glasgow address during regular business hours (7:45 a.m. to 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be available for public inspection in their entirety.

FOR FURTHER INFORMATION CONTACT: John Fahlgren, 406-228-4316.

SUPPLEMENTARY INFORMATION: This plan amendment/EA addresses special management for two potential ACECs; Bitter Creek and Mountain Plover. The public land being considered is located in Valley County, Montana. This plan would amend the Judith-Valley-Phillips Resource Management Plan (RMP).An ACEC is an area where special management attention is required to protect important historic, cultural or scenic values, fish and wildlife resources or other natural systems, or to protect life and safety from natural hazards.The Bitter Creek Wilderness Study Area (WSA) (59,660 acres) was found to meet the criteria as a potential ACEC due to the scenic diversity and variety of vegetation types and wildlife habitat. The Mountain Plover area (24,730 acres) provides natural habitat for the mountain plover, a prairie bird. It is an area of native plover habitat which is not associated with black-tailed prairie dogs.

(Authority: Sec. 202, Pub. L. 94-579, 90 Stat. 2747 (43 U.S.C. 1712))

Dated: February 22, 2000.
John Fahlgren,
Assistant Field Manager, Bureau of Land Management.

[FR Doc. 00-6591 Filed 3-16-00; 8:45 am]

BILLING CODE 4310-DN-P